DEPARTMENT OF EDUCATION

Application for New Awards; Indian Education Formula Grants to Local Educational Agencies

AGENCY: Office of Elementary and Secondary Education, Department of Education.

ACTION: Notice.

Overview Information:

Indian Education Formula Grants to Local Educational Agencies.

Notice inviting applications for fiscal year (FY) 2013.

Catalog of Federal Domestic Assistance (CFDA) Number: 84.060A.

DATES: Part I of the Formula Grant Electronic Application System for Indian Education (EASIE) Applications Available: January 14, 2013.

Deadline for Transmittal of Part I Applications: March 8, 2013.

Part II of the Formula Grant EASIE Applications Available: March 29, 2013.

Deadline for Transmittal of Part II Applications: May 14, 2013.

Note: Applicants must meet the deadlines for both EASIE Part I and Part II to receive a grant. Any application not meeting the Part I and Part II deadlines will not be considered for funding. This change is being initiated in order to be consistent with Department-wide policy, and ensure that applicants who meet the deadlines receive the maximum amount of available funding. Other changes to application procedures are explained in section IV.2 Content and Form of Application Submission, and IV.7 Other Submission Requirements.

I. Funding Opportunity Description

Purpose of Program: The Indian Education Formula Grants to Local Educational Agencies program provides grants to support local educational agencies (LEAs) and other eligible entities described in this notice in reforming and improving elementary and secondary school programs that serve Indian students. The Department funds comprehensive programs that are designed to help Indian students meet the same State academic content and student academic achievement standards used for all students while addressing the language and cultural needs of Indian students. Such programs include supporting the professional development of teachers of Indian students.

In addition, under section 7116 of the Elementary and Secondary Education Act of 1965, as amended (ESEA), the Secretary will, upon receipt of an acceptable plan for the integration of education and related services, and in cooperation with other relevant Federal agencies, authorize the entity receiving the funds under this program to consolidate all Federal formula funds that are to be used exclusively for Indian students. Instructions for submitting an integration of education and related services plan are included in the EASIE, which is described elsewhere in this notice under Application Process and Submission Information.

Note: Under the Indian Education Formula Grants to Local Educational Agencies program, applicants are required to develop the project for which an application is made: (a) In open consultation with parents and teachers of Indian students and, if appropriate, Indian students from secondary schools, including through public hearings held to provide a full opportunity to understand the program and to offer recommendations regarding the program (section 7114(c)(3)(C) of the ESEA); (b) with the participation of a parent committee selected in accordance with section 7114(c)(4) of the ESEA; and, (c) with the written approval of that parent committee (section 7114(c)(4) of the ESEA).

Program Authority: 20 U.S.C. 7421 et seq.

Applicable Regulations: (a) The Education Department General Administrative Regulations (EDGAR) in 34 CFR parts 75, 77, 79, 80, 81, 82, 84, 97, 98, and 99. (b) The Education Department suspension and debarment regulations in 2 CFR part 3485.

Note: The regulations in 34 CFR part 79 apply to all applicants except federally recognized Indian tribes.

II. Award Information

Type of Award: Indian Education Formula Grants to Local Educational Agencies.

Estimated Available Funds: The Administration has requested $105,921,000 for this program for FY 2013. The actual level of funding, if any, depends on final congressional action. However, we are inviting applications to allow enough time to complete the grant process if Congress appropriates funds for this program.

Estimated Range of Awards: $4,000 to $2,880,000.

Estimated Average Size of Awards: $82,000.

Estimated Number of Awards: 1,300.

Note: The Department is not bound by any estimates in this notice.

Project Period: 12 months.

III. Eligibility Information

1. Eligible Applicants: Certain LEAs, including charter schools authorized as LEAs under State law, as prescribed by section 7112(b) of the ESEA, certain schools funded by the Bureau of Indian Education of the U.S. Department of the Interior, as prescribed by section 7113(d) of the ESEA, and Indian tribes under certain conditions, as prescribed by section 7112(c) of the ESEA.

2. a. Cost Sharing or Matching: This program does not require cost sharing or matching.

b. Supplement-Not-Supplant: This program involves supplement-not-supplant funding requirements. Section 7114(c)(1) of ESEA states that the LEA will use these grant funds only to supplement the funds that, in the absence of these Federal funds, such agency would make available for the education of Indian children, and not to supplant such funds.

IV. Application Process and Submission Information

1. How to Request an Application: Applications for grants under this program must be submitted electronically using the Formula Grant EASIE, at https//eden.ed.gov/Survey/. For information (including dates and times) about how to submit your application electronically, or in paper format by mail or hand delivery if you qualify for an exception to the electronic submission requirements, please refer to section IV.7. Other Submission Requirements of this notice.

Individuals with disabilities can obtain a copy of the application package in an accessible format (e.g., braille, large print, audiotape, or compact disc) by contacting the person or team listed under For Further Information Contact in section VI of this notice.

2. Content and Form of Application Submission: Requirements concerning the content of an application, together with the forms you must submit, are in the online application package for this program. The online application requires the submission of data related to the performance measures, which are listed in this notice in section V. Grant Administration Information.

The application submission under EASIE Part I and Part II of this program is entirely electronic and has been enhanced to include the electronic submission of required supplementary documentation. All of the changes to the submission process for FY 2013 are designed to reduce burden for the applicant and to streamline the grant-making process.

Under EASIE Part I, applicants for FY 2013 that are tribes will be able to upload their verification of eligibility. The details of the verification process, which is necessary to meet the statutory eligibility requirements for tribes, are in the application package. The only change from past practice is that the documentation must be uploaded into the EASIE system prior to certification during the EASIE Part I open period. Failure to submit the required documentation by the EASIE Part I deadline will result in an incomplete application that will not be considered for funding. The Office of Indian Education recommends submitting the documentation 20 days prior to the closing date to ensure that any potential submission issues are resolved prior to the deadline.

In EASIE Part II, an applicant that is the lead LEA for a consortium of LEAs will be able to upload the consortium agreement, which must meet the requirements of 34 CFR 75.128. This agreement must be uploaded into the EASIE system prior to certifying the EASIE Part II application. A consortium may use its existing consortium agreement provided that it includes details of the activities that each LEA member will perform and binds each member to every statement and assurance made by the lead LEA in the application. The agreement must include the signature of each participating LEA Superintendent or authorized representative assuring that each LEA will comply with the statutory requirements of the Indian Education Formula Grants, including the requirements regarding the Indian parent committee in section 7114(c) of the ESEA (20 U.S.C. 7424(c)). The consortium may use the sample agreement, available in the EASIE system as a downloadable document, as a guide.

Also in EASIE Part II, the Indian Parent Committee Approval form, which is required of all applicants that are LEAs or consortia of LEAs, must be uploaded into the EASIE system prior to certification of Part II. The form is available in the EASIE system. In the past, applicants could submit the Indian Parent Committee Approval form up to three days following certification, but for FY 2013 this form must be submitted by the Part II deadline. For both the Indian Parent Committee Approval form and the consortium agreement, an applicant's failure to submit the required documentation by the Part II deadline will result in an incomplete application that will not be considered for funding. The Office of Indian Education recommends submitting these required forms 20 days prior to the EASIE Part II closing date to ensure that any potential submission issues are resolved prior to the deadline.

3. Submission Dates and Times: Part I of the Formula Grant Electronic Application System for Indian Education (EASIE) Applications Available: January 14, 2013. Deadline for Transmittal of Part I Applications: March 8, 2013.

Part II of the Formula Grant EASIE Applications Available: March 29, 2013.

Deadline for Transmittal of Part II Applications: May 14, 2013.

Applications for grants under this program must be submitted electronically using the Formula Grant EASIE. For information (including dates and times) about how to submit your application electronically, or in paper format by mail or hand delivery if you qualify for an exception to the electronic submission requirements, please refer to section IV.7. Other Submission Requirements of this notice. All applications must be submitted by the Part I and Part II deadlines in order to receive funding; late applications will no longer be considered.

Individuals with disabilities who need an accommodation process should contact the person listed under FOR FURTHER INFORMATION CONTACT in section VI of this notice. If the Department provides an accommodation or auxiliary aid to an individual with a disability in connection with the application process, the individual's application remains subject to all other requirements and limitations in this notice.

Below is a table summarizing the FY 2013 EASIE deadlines.

| Requirement | Open date | Close/due date
EASIE Part I | Open Period | Jan 14, 2013 | Mar 8, 2013.
Tribe in Lieu of LEA(s) | Evidence of Eligibility |  | Mar 8, 2013.
EASIE Part II | Open Period | Mar 29, 2013 | May 14, 2013.
LEA Consortium Applicants | Consortium Agreement |  | May 14, 2013.
LEA and LEA Consortium Indian Parent Committees | Indian Parent Committee Approval Form |  | May 14, 2013.

4. Intergovernmental Review: This program is not subject to Executive Order 12372 and the regulations in 34 CFR part 79.

5. Funding Restrictions: We reference additional regulations outlining funding restrictions in the Applicable Regulations section of this notice.

6. Data Universal Numbering System Number, Taxpayer Identification Number, Central Contractor Registry, and System for Award Management: To do business with the Department of Education, you must—

a. Have a Data Universal Numbering System (DUNS) number and a Taxpayer Identification Number (TIN);

b. Register both your DUNS number and TIN with the Central Contractor Registry (CCR)—and, after July 24, 2012, with the System for Award Management (SAM), the Government's primary registrant database;

c. Provide your DUNS number and TIN on your application; and

d. Maintain an active CCR or SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your registration annually. This may take three or more business days to complete. Information about SAM is available at www.SAM.gov.

7. Other Submission Requirements: Applications for grants under this program must be submitted electronically unless you qualify for an exception to this requirement in accordance with the instructions in this section.

a. Electronic Submission of Applications.

Applications for grants under the Indian Education Formula Grants to Local Educational Agencies program—84.060A must be submitted electronically using the Formula Grant EASIE.

We will reject your application if you submit it in paper format unless you qualify for one of the exceptions to the electronic submission requirement described later in this section under Exception to Electronic Submission Requirement, and follow the submission rules outlined therein.

Formula Grant EASIE Electronic Application System: Formula Grant EASIE is an easy-to-use, electronic application system. It imports data from State submissions to EDFacts, the Department's data collection system that contains performance information from State educational agencies about schools and Federal education programs. To the extent that your State has provided the necessary EDFacts data files, Formula Grant EASIE will be able to interface with EDFacts and pull those LEA-specific data into the application. Additionally, this system allows the Department to review applications and interact online with applicants during the application review and approval process.

The Formula Grant EASIE application is divided into two parts—Part I and Part II.

Part I, Student Count, provides the appropriate data-entry screens to submit your Indian student count totals.

Part II, Program and Budget Information, provides your estimated award amount based on the Indian student count total submitted under Part I. Part II also enables you to enter student performance data, identify your project's services and activities, and build a realistic program budget based on an estimated grant amount. Based on student assessment data, you will select your program objectives and services from a variety of menu options that were designed with grantee input.

For FY 2013, the EASIE Part II certification process has been changed to accommodate the reallocation of funds prior to awarding grants. After the initial grant amounts are determined, additional funds may become available due to such circumstances as withdrawn applications or reduction in an applicant's student count. For the FY 2013 grants, the Department will reallocate any additional funds to all on-time applicants rather than funding late applicants. To accommodate this change, in the certification process, your certifying official must first agree to the assurances made in the application. The certifying official will then approve not only the budget submitted with the application, but also any budget revision submitted in the future by his or her authorized representative. An applicant whose award amount increases or decreases more than $1,000 must submit a revised budget prior to receiving its grant award but will not need to re-certify its application. For an applicant that receives an increase or decrease in its award less than $1,000, there will be no need for further action. For any applicant that receives notification of an increased award amount following submission of its original budget, the applicant must allocate the increased amount only to previously approved budget categories, whether or not the amount exceeds $1,000.

Registration for Formula Grant EASIE: Entities are encouraged to register as soon as possible at the registration Web site www.easie.org, to ensure that any potential registration issues are resolved prior to the deadline for the submission of an application. The purpose of the initial registration is to activate or re-activate entities' access to EASIE and to ensure that the correct entity information (e.g., NCES or DUNS numbers) is pre-populated into the first part of Formula Grant EASIE. The registration Web site does not serve as the entity's grant application. The registration must be completed by current, former, and new applicants interested in submitting an Indian Formula Grant EASIE application. For information on how to register, contact the EDFacts Partner Support Center listed elsewhere in this notice under FOR FURTHER INFORMATION CONTACT.

Exception to Electronic Submission Requirement: You qualify for an exception to the electronic submission requirement, and may submit your application in paper format, if you are unable to submit an application through the EASIE system because—

• You do not have access to the Internet; or

• You do not have the capacity to upload documents to the EASIE system; and

• No later than two weeks before the application deadline date for Part I (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Bernard Garcia, U.S. Department of Education, Office of Indian Education, 400 Maryland Avenue SW., Room 3E307, Washington, DC 20202-6335. FAX: (202) 205-0606.

Your paper application must be submitted in accordance with the mail or hand delivery instructions described in this notice.

b. Submission of Paper Applications by Mail.

If you qualify for an exception to the electronic submission requirement, you may mail (through the U.S. Postal Service or a commercial carrier) your application to the U.S Department of Education, Office of Indian Education. You must mail the original and two copies of your application, on or before the application deadline dates for both Part I and Part II, to the Office of Indian Education at the following address: U.S. Department of Education, Office of Indian Education, Attention: CFDA Number 84.060A, 400 Maryland Avenue SW., Room 3E307, Washington, DC 20202-6335.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

For all grant awards, if your application is postmarked after the application deadline date for Part I or Part II, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline dates for both Part I and Part II, to the Department at the following address: U.S. Department of Education, Office of Indian Education, Attention: CFDA Number 84.060A, 400 Maryland Avenue SW., Room 3E307, Washington, DC 20202-6335.

The Program Office accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—on your application, the CFDA number, including suffix letter, if any, of the competition under which you are submitting your application; and

(2) The Program Office will mail to you a notification of receipt of your grant application. If you do not receive this notification within 15 business days from the application deadline date, you should call the U.S. Department of Education Office of Indian Education at (202) 260-3774.

V. Grant Administration Information

1. Administrative and National Policy Requirements: We identify administrative and national policy requirements in the application package and reference these and other requirements in the Applicable Regulations section of this notice. We reference the regulations outlining the terms and conditions of a grant in the Applicable Regulations section of this notice.

2. Performance Measures: The Secretary has established the following key performance measures for assessing the effectiveness and efficiency of the Indian Education Formula Grants to Local Educational Agencies program: (1) The percentage of American Indian and Alaska Native students in grades four and eight who score at or above the basic level in reading on the National Assessment of Educational Progress (NAEP); (2) the percentage of American Indian and Alaska Native students in grades four and eight who score at or above the basic level in mathematics on the NAEP; (3) the percentage of American Indian and Alaska Native students in grades three through eight meeting State performance standards by scoring at the proficient or the advanced levels in reading and mathematics on State assessments; (4) the difference between the percentage of American Indian and Alaska Native students in grades three through eight at the proficient or advanced levels in reading and mathematics on State assessments and the percentage of all students scoring at those levels; (5) the percentage of American Indian and Alaska Native students who graduate from high school; and (6) the percentage of funds used by grantees prior to award close-out.

VI. Agency Contacts

FOR FURTHER INFORMATION CONTACT: For questions about the Formula Grant Program to Local Educational Agencies, contact Bernard Garcia, U.S. Department of Education, 400 Maryland Avenue SW., Room 3E307, Washington, DC 20202-6335. Telephone: (202) 260-1454 or by email: Bernard.Garcia@ed.gov. For questions about the EASIE application and uploading documentation, contact the EDFacts Partner Support Center, telephone: 877-457-3336 (877-HLP-EDEN) or by email at: eden_OIE@ed.gov.

If you use a telecommunications device for the deaf (TDD) or a text telephone (TTY), call the EDFacts Partner Support Center, toll free, at 1-888-403-3336 (888-403-EDEN).

Individuals with disabilities can obtain this document and a copy of the application package in an accessible format (e.g., braille, large print, audiotape, or compact disc) by contacting the EDFacts Partner Support Center.

Electronic Access to This Document: The official version of this document is the document published in the Federal Register. Free Internet access to the official edition of the Federal Register and the Code of Federal Regulations is available via the Federal Digital System at: www.gpo.gov/fdsys. At this site you can view this document, as well as other documents of this Department published in the Federal Register in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: January 23, 2013.
Deborah Delisle,
Assistant Secretary for Elementary and Secondary Education.

[FR Doc. 2013-01722 Filed 1-28-13; 8:45 am]

BILLING CODE P